DEPARTMENT OF ENERGY

Western Area Power Administration

Proposed Base Charge and Rates for Boulder Canyon Project

AGENCY: Western Area Power Administration, DOE.

ACTION: Notice of proposed base charge and rates.

SUMMARY: The Western Area Power Administration (Western) is proposing an adjustment to the base charge and rates for Boulder Canyon Project (BCP) firm power service. The current base charge and rates expire September 30, 2001. The proposed base charge and rates will provide enough revenue to pay all annual costs, including interest expense, and repay required investment within the allowable period. The rate impacts are detailed in a rate package to be provided to all interested parties. The proposed base charge and rates are scheduled to go into effect on October 1, 2001, to correspond with the start of the Federal fiscal year (FY), and will remain in effect through September 30, 2002. This Federal Register notice initiates the formal process for the proposed base charge and rates.

DATES: The consultation and comment period will begin today and will end May 14, 2001. A public information forum at which Western will present a detailed explanation of the proposed base charge and rates is scheduled for April 4, 2001, beginning at 10 a.m. MST, at the Desert Southwest Customer Service Regional Office. A public comment forum at which Western will receive oral and written comments is scheduled for April 25, 2001, beginning at 10 a.m. MST, at the same location.

ADDRESSES: Written comments are to be sent to: Mr. J. Tyler Carlson, Regional Manager, Desert Southwest Customer Service Region, Western Area Power Administration, P.O. Box 6457, Phoenix, AZ 85005-6457, e-mail: carlson@wapa.gov. Western should receive written comments by the end of the consultation and comment period to be assured consideration.

FOR FURTHER INFORMATION CONTACT: Mr. Maher A. Nasir, Rates Team Lead, Desert Southwest Customer Service Region, Western Area Power Administration, P.O. Box 6457, Phoenix, AZ 85005-6457, telephone (602) 352-2768, e-mail: nasir@wapa.gov.

SUPPLEMENTARY INFORMATION: The proposed base charge and rates for BCP firm power service are designed to recover an annual revenue requirement that includes the investment repayment, interest, operation and maintenance, replacements, payment to states, visitor services, and uprating payments. These annual costs are reduced by the projected revenue from water sales, visitor services, water pump energy sales, facility use charge, regulation services, miscellaneous lease, late fees, and the prior year carryover to determine the annual revenue requirement. The projected annual revenue requirement is the base charge for firm power service and is divided by 50 percent to capacity dollars and 50 percent to energy dollars. The annual energy dollars are divided by the annual energy sales and the annual capacity dollars are divided by the annual capacity sales to determine the proposed energy rate and the proposed capacity rate.

Table 1.—Proposed Firm Power Base Charge and Rates
Effective period | Total composite (mills/kWh) | Base charge | Energy rate (mills/kWh) | Capacity rate ($/kW-month) | Capacity energy split
10/01/2001 | 10.75 | $51,151,389 | 5.54 | $1.06 | 50/50

The Deputy Secretary of the Department of Energy (DOE) approved the existing rate formula for calculating the base charge and rates in Rate Schedule BCP-F6 for BCP firm power service on September 18, 2000 (Rate Order No. WAPA-94, 65 FR 60932, October 13, 2000), which has been submitted to the Federal Energy Regulatory Commission (FERC) for final confirmation and approval. Existing Rate Schedule BCP-F6 became effective on October 1, 2000, through September 30, 2005. Under Rate Schedule BCP-F6, on October 1, 2000, the composite rate for FY 2001 was 9.75 mills per kilowatthour (mills/kWh), the base charge was $47,788,574, the forecasted energy rate was 5.04 mills/kWh, and the forecasted capacity rate was $0.99 per kilowattmonth (kWmonth). The proposed base charge and rates for BCP firm power service for FY 2002 will result in an overall composite rate increase of approximately 9 percent on October 1, 2001, when compared with the current BCP firm power service base charge and rates under Rate Schedule BCP-F6. The increase in the proposed base charge and rates is due to higher annual costs and lower energy sales. Table 2 compares the current base charge and rates in Rate Schedule BCP-F6 and the proposed base charge and rates along with the percentage change in the base charge and rates.

Table 2.—Comparison of Current and Proposed Base Charge and Rates Percentage Change in Firm Power Service Base Charge and Rates
| Current | Proposed | % Change
Effective Period | 10/01/00 | 10/01/01 |
Total Composite (mills/kWh) | 9.75 | 10.75 | 9
Base Charge ($) | 47,788,574 | 51,151,389 | 7
Energy Rate (mills/kWh) | 5.04 | 5.54 | 9
Capacity Rate ($/kWmonth) | 0.99 | 1.06 | 7

Since the proposed base charge and rates constitute a major rate adjustment as defined by the procedures for public participation in general rate adjustments, as cited below, both a public information forum and a public comment forum will be held. After review of the public comments, Western will recommend the proposed base charge and rates (as amended) be approved on a final basis by the DOE Deputy Secretary.

The proposed firm power service base charge and rates for BCP are being established pursuant to the DOE Organization Act 42 U.S.C. 7101-7352; the Reclamation Act of 1902, ch. 1093, 32 Stat.388, as amended and supplemented by subsequent enactments, particularly section 9(c) the Reclamation Project Act of 1939, 43 U.S.C. 485h(c); and other acts specifically applicable to the project involved.

By Amendment No. 3 to Delegation Order No. 0204-108, published November 10, 1993 (58 FR 59716), the Secretary of Energy delegated (1) the authority to develop long-term power and transmission rates on a nonexclusive basis to Western's Administrator; and (2) the authority to confirm, approve, and place into effect on a final basis, to remand, or to disapprove such rates to FERC. In Delegation Order No. 0204-172, effective November 24, 1999, the Secretary delegated the authority to confirm, approve, and place such rates into effect on an interim basis to the Deputy Secretary. Existing DOE procedures for public participation in power rate adjustments (10 CFR part 903) became effective on September 18, 1985 (50 FR 37835).

Availability of Information

All brochures, studies, comments, letters, memorandums, or other documents made or kept by Western for developing the proposed base charge and rates are and will be made available for inspection and copying at the Desert Southwest Customer Service Regional Office, located at 615 South 43rd Avenue, Phoenix, Arizona.

Regulatory Procedural Requirements

Regulatory Flexibility Analysis

The Regulatory Flexibility Act of 1980 (5 U.S.C. 601, et seq.) requires Federal agencies to perform a regulatory flexibility analysis if a final rule is likely to have a significant economic impact on a substantial number of small entities and there is a legal requirement to issue a general notice of proposed rulemaking. Western has determined that this action does not require a regulatory flexibility analysis since it is a rulemaking of particular applicability involving rates or services applicable to public property.

Environmental Compliance

In compliance with the National Environmental Policy Act of 1969 (NEPA) (42 U.S.C. 4321, et seq.); Council On Environmental Quality Regulations (40 CFR parts 1500-1508); and DOE NEPA Regulations (10 CFR part 1021), Western has determined that this action is categorically excluded from the preparation of an environmental assessment or an environmental impact statement.

Determination Under Executive Order 12866

Western has an exemption from centralized regulatory review under Executive Order 12866; accordingly, no clearance of this notice by the Office of Management and Budget is required.

Small Business Regulatory Enforcement Fairness Act

Western has determined that this rule is exempt from congressional notification requirements under 5 U.S.C. 801 because the action is a rulemaking of particular applicability relating to rates or services and involves matters of procedure.

Dated: February 1, 2001.
Michael S. Hacskaylo,
Administrator.

[FR Doc. 01-3590 Filed 2-12-01; 8:45 am]

BILLING CODE 6450-01-P